NATIONAL SCIENCE FOUNDATION

Proposal Review Panel for Physics; Notice of Meeting

In accordance with the Federal Advisory Committee Act (Pub. L. 92-463, as amended), the National Science Foundation (NSF) announces the following meeting:

Name and Committee Code: LIGO Annual Site Visit Review of Operations for the Division of Physics (1208).

Date and Time: All times are Pacific Daylight Time:

June 1, 2022; 8:00 a.m.-5:30 p.m.

June 2, 2022; 8:00 a.m.-11:00 a.m.

June 2, 2022; 4:30 p.m.-5:30 p.m.

June 3, 2022; 8:00 a.m.-10:30 a.m.

Place: LIGO Hanford Observatory, 127124 N Route 10, Richland, WA 99354.

Type of Meeting: Part-Open.

Contact Person: Mark Coles, Program Director, Division of Physics, National Science Foundation, 2415 Eisenhower Avenue, Room 9219, Alexandria, VA 22314; Telephone: (703) 292-4432.

Purpose of Meeting: Site visit to provide an evaluation of the progress of the projects at the host site for the Division of Physics at the National Science Foundation.

Agenda: Agenda (all times Pacific Daylight Time [PDT]):

June 1 (Wednesday)

8:00 a.m.-8:30 a.m.—Executive Session (Closed)

8:30 a.m.-5:00 p.m.—Presentations by LIGO (Open)

5:00 p.m.-5:30 p.m.—Executive Session (Closed)

June 2 (Thursday)

8:00 a.m.-8:30 a.m.—Executive Session (Closed)

8:30 a.m.-11:00 a.m.—Presentations and discussion (Open)

4:30 p.m.-5:30 p.m.—Discussion (Open)

June 3 (Friday)

8:00 a.m.-10:00 a.m.—Executive Session (Closed)

10:00 a.m.-10:30 a.m.—Closeout presentation by review panel (Open)

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: April 13, 2022.
Crystal Robinson,
Committee Management Officer.

[FR Doc. 2022-08256 Filed 4-15-22; 8:45 am]

BILLING CODE 7555-01-P